NUCLEAR REGULATORY COMMISSION

680th Meeting of the Advisory Committee on Reactor Safeguards (ACRS)

In accordance with the purposes of Sections 29 and 182b of the Atomic Energy Act (42 U.S.C. 2039, 2232b), the Advisory Committee on Reactor Safeguards (ACRS) will hold meetings on November 4-7, 2020. As part of the coordinated government response to combat the COVID-19 public health emergency, the Committee will conduct virtual meetings. The public will be able to participate in any open sessions via 1-866-822-3032, pass code 8272423#.

Wednesday, November 4, 2020

2:00 p.m.-2:05 p.m.: Opening Remarks by the ACRS Chairman (Open)—The ACRS Chairman will make opening remarks regarding the conduct of the meeting.

2:05 p.m.-4:15 p.m.: Review of latest update of Branch Technical Position 7-19, “Guidance for Evaluation of Diversity and Defense-In Depth in Digital Computer-Based I&C Systems” (Open)—The Committee will have presentations and discussion with representatives from Nuclear Energy Institute and NRC staff regarding the subject topic.

4:30 p.m.-6:00 p.m.: Commission Meeting Preparation (Open)—The Committee will have discussion and practice of draft presentations regarding the subject topic.

Thursday, November 5, 2020

9:30 a.m.-11:30 a.m.: Regulatory Guide 1.200 Revision on Review and Approval of New Methods for Light-Water Reactors (Open)—The Committee will have presentations and discussion with representatives from the industry and NRC staff regarding the subject topic.

11:45 a.m.-3:30 p.m.: Information Session on the OKLO combined license application including the AURORA reactor design (Open/Closed)—The Committee will have presentations and discussion by the applicant regarding the subject topic. [Note: Pursuant to 5 U.S.C 552b(c)(4), a portion of this session may be closed in order to discuss and protect information designated as proprietary.]

4:00 p.m.-6:30 p.m.: Preparation of ACRS Reports (Open/Closed)—The Committee will continue its discussion of proposed ACRS reports. [Note: Pursuant to 5 U.S.C 552b(c)(4), a portion of this session may be closed in order to discuss and protect information designated as proprietary.]

Friday, November 6, 2020

9:30 a.m.-11:30 a.m.: Future ACRS Activities/Report of the Planning and Procedures Subcommittee and Reconciliation of ACRS Comments and Recommendations/Preparation of Reports (Open/Closed)—The Committee will hear discussion of the recommendations of the Planning and Procedures Subcommittee regarding items proposed for consideration by the Full Committee during future ACRS meetings, and/or proceed to preparation of reports as determined by the Chairman. [Note: Pursuant to 5 U.S.C. 552b(c)(2) and (6), a portion of this meeting may be closed to discuss organizational and personnel matters that relate solely to internal personnel rules and practices of the ACRS, and information the release of which would constitute a clearly unwarranted invasion of personal privacy.]

[Note: Pursuant to 5 U.S.C 552b(c)(4), a portion of this session may be closed in order to discuss and protect information designated as proprietary.]

11:30 a.m.-6:00 p.m.: Preparation of ACRS Reports and Commission Meeting (Open/Closed)—The Committee will continue its discussion of proposed ACRS reports and Commission Meeting preparation. [Note: Pursuant to 5 U.S.C 552b(c)(4), a portion of this session may be closed in order to discuss and protect information designated as proprietary.]

Saturday, November 7, 2020

9:30 a.m.-2:00 p.m.: Preparation of ACRS Reports (Open/Closed)—The Committee will continue its discussion of proposed ACRS reports. [Note: Pursuant to 5 U.S.C 552b(c)(4), a portion of this session may be closed in order to discuss and protect information designated as proprietary.]

[Note: Pursuant to 5 U.S.C. 552b(c)(2) and (6), portions of this meeting may be closed to discuss organizational and personnel matters that relate solely to internal personnel rules and practices of the ACRS, and information the release of which would constitute a clearly unwarranted invasion of personal privacy.]

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the Designated Federal Officer (Telephone: 301-415-5844, Email: Quynh.Nguyen@nrc.gov), 5 days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience.

An electronic copy of each presentation should be emailed to the Cognizant ACRS Staff at least one day before meeting.

In accordance with Subsection 10(d) of Public Law 92-463 and 5 U.S.C. 552b(c), certain portions of this meeting may be closed, as specifically noted above. Use of still, motion picture, and television cameras during the meeting may be limited to selected portions of the meeting as determined by the Chairman. Electronic recordings will be permitted only during the open portions of the meeting.

ACRS meeting agendas, meeting transcripts, and letter reports are available through the NRC Public Document Room (PDR) at pdr.resource@nrc.gov, or by calling the PDR at 1-800-397-4209, or from the Publicly Available Records System component of NRC's Agencywide Documents Access and Management System (ADAMS) which is accessible from the NRC website at https://www.nrc.gov/reading-rm/adams.html or https://www.nrc.gov/reading-rm/doc-collections/#ACRS/.

Video teleconferencing service is available for observing open sessions of ACRS meetings. Those wishing to use this service should contact Thomas Dashiell, ACRS Audio Visual Technician (301-415-7907), between 7:30 a.m. and 3:45 p.m. (Eastern Time), at least 10 days before the meeting to ensure the availability of this service. Individuals or organizations requesting this service will be responsible for telephone line charges and for providing the equipment and facilities that they use to establish the video teleconferencing link. The availability of video teleconferencing services is not guaranteed.

Note: This notice is late due to the COVID-19 public health emergency and current health precautions which required the Committee to prepare for the meeting to be held remotely.

Russell E. Chazell,
Federal Advisory Committee Management Officer, Office of the Secretary.

[FR Doc. 2020-23486 Filed 10-22-20; 8:45 am]

BILLING CODE 7590-01-P